DEPARTMENT OF THE INTERIOR

National Park Service

Native American Graves Protection and Repatriation Review Committee: Meeting; Correction

AGENCY: National Park Service, Interior.

ACTION: Notice.

This notice corrects the notice regarding the Native American Graves Protection and Repatriation Review Committee meeting in Seattle, WA, November 8-10, 2002.

In the Federal Register of Thursday, July 18, 2002, FR Doc. 02-18050, page 47397, paragraph number 1 is corrected by substituting the following paragraph: The agenda for the meeting will include Federal agency compliance; regulations on Section 10.11, Disposition of Culturally Unidentifiable Human Remains; and a dispute between the Ho-Chunk Nation and The Field Museum.

Dated: September 17, 2002.
Robert Stearns,
Manager, National NAGPRA Program.

[FR Doc. 02-26601 Filed 10-17-02; 8:45 am]

BILLING CODE 4310-70-S